DEPARTMENT OF ENERGY

Federal Energy Regulatory Commission

Combined Notice of Filings #1

Take notice that the Commission received the following electric corporate filings:

Docket Numbers: EC22-126-000.

Applicants: BigBeau Solar, LLC, Desert Harvest, LLC, Desert Harvest II LLC, Milligan 1 Wind LLC.

Description: Joint Application for Authorization Under Section 203 of the Federal Power Act of BigBeau Solar LLC, et al.

Filed Date: 9/26/22.

Accession Number: 20220926-5168.

Comment Date: 5 p.m. ET 10/17/22.

Take notice that the Commission received the following electric rate filings:

Docket Numbers: ER22-188-001; ER22-519-000; ER22-472-000;ER22-508-000; ER22-456-000; ER22-464-000;ER22-353-000; ER22-416-000; ER22-423-000;ER22-433-000; ER22-521-000; ER22-523-000.

Applicants: Indra Power Business TX LLC, Indra Power Business VA LLC, Indra Power Business PA, LLC, Columbia Utilities Power Business LLC, Indra Power Business NJ, LLC, Indra Power Business MI, LLC, Indra Power Business MD LLC, Indra Power Business MA LLC, Indra Power Business IL LLC, Indra Power Business DE LLC, Indra Power Business DC LLC, Indra Power Business CT, LLC.

Description: Supplement to September 16, 2022, Notice of Change in Status of Indra Power Business CT LLC et al.

Filed Date: 9/23/22.

Accession Number: 20220923-5216.

Comment Date: 5 p.m. ET 10/14/22.

Docket Numbers: ER22-2115-001.

Applicants: Timber Road Solar Park LLC.

Description: Tariff Amendment: Response to Deficiency Letter to be effective 8/14/2022.

Filed Date: 9/26/22.

Accession Number: 20220926-5143.

Comment Date: 5 p.m. ET 10/17/22.

Docket Numbers: ER22-2116-001.

Applicants: Blue Harvest Solar Park LLC.

Description: Tariff Amendment: Response to Deficiency Letter to be effective 8/14/2022.

Filed Date: 9/26/22.

Accession Number: 20220926-5141.

Comment Date: 5 p.m. ET 10/17/22.

Docket Numbers: ER22-2190-002.

Applicants: EDPR CA Solar Park LLC.

Description: Tariff Amendment: Response to Deficiency Letter to be effective 8/24/2022.

Filed Date: 9/26/22.

Accession Number: 20220926-5147.

Comment Date: 5 p.m. ET 10/17/22.

Docket Numbers: ER22-2191-002.

Applicants: EDPR CA Solar Park II LLC.

Description: Tariff Amendment: Response to Deficiency Letter to be effective 8/24/2022.

Filed Date: 9/26/22.

Accession Number: 20220926-5149.

Comment Date: 5 p.m. ET 10/17/22.

Docket Numbers: ER22-2192-002.

Applicants: EDPR Scarlet I LLC.

Description: Tariff Amendment: Response to Deficiency Letter to be effective 8/24/2022.

Filed Date: 9/26/22.

Accession Number: 20220926-5153.

Comment Date: 5 p.m. ET 10/17/22.

Docket Numbers: ER22-2933-000.

Applicants: Nevada Power Company, Sierra Pacific Power Company.

Description: § 205(d) Rate Filing: Nevada Power Company submits tariff filing per 35.13(a)(2)(iii: NV Energy OATT Revisions (LGIP & Schedule 12) to be effective 12/1/2022.

Filed Date: 9/26/22.

Accession Number: 20220926-5134.

Comment Date: 5 p.m. ET 10/17/22.

Docket Numbers: ER22-2934-000.

Applicants: TAQA Gen X LLC.

Description: Tariff Amendment: Cancellation entire tariff to be effective 10/1/2022.

Filed Date: 9/27/22.

Accession Number: 20220927-5001.

Comment Date: 5 p.m. ET 10/18/22.

Docket Numbers: ER22-2935-000.

Applicants: Southwestern Public Service Company.

Description: § 205(d) Rate Filing: 2022-09-27 SPS-GSEC-NPEC IA—Wildcat NDP-742-0.0.0 to be effective 11/26/2022.

Filed Date: 9/27/22.

Accession Number: 20220927-5020.

Comment Date: 5 p.m. ET 10/18/22.

Docket Numbers: ER22-2936-000.

Applicants: Alabama Power Company, Georgia Power Company, Mississippi Power Company.

Description: Tariff Amendment: Alabama Power Company submits tariff filing per 35.15: Origis Holdings USA Subco (Choctaw I Solar) LGIA Termination Filing to be effective 9/27/2022.

Filed Date: 9/27/22.

Accession Number: 20220927-5075.

Comment Date: 5 p.m. ET 10/18/22.

Docket Numbers: ER22-2937-000.

Applicants: Alabama Power Company, Georgia Power Company, Mississippi Power Company.

Description: Tariff Amendment: Alabama Power Company submits tariff filing per 35.15: Origis Holdings USA Subco (Choctaw II Solar) LGIA Termination Filing to be effective 9/27/2022.

Filed Date: 9/27/22.

Accession Number: 20220927-5080.

Comment Date: 5 p.m. ET 10/18/22.

Docket Numbers: ER22-2938-000.

Applicants: Florida Power & Light Company.

Description: § 205(d) Rate Filing: FPL-DEF Transfer of Affected System Agreement eTariff Records to be effective 9/28/2022.

Filed Date: 9/27/22.

Accession Number: 20220927-5098.

Comment Date: 5 p.m. ET 10/18/22.

Docket Numbers: ER22-2939-000.

Applicants: Gulf Power Company.

Description: Tariff Amendment: Transfer of Affected System Agreement eTariff Records and Notice of Cancellation to be effective 9/28/2022.

Filed Date: 9/27/22.

Accession Number: 20220927-5099.

Comment Date: 5 p.m. ET 10/18/22.

Docket Numbers: ER22-2940-000.

Applicants: Florida Power & Light Company.

Description: § 205(d) Rate Filing: FPL-PowerSouth Transfer of Affected System Agreement eTariff Records to be effective 9/28/2022.

Filed Date: 9/27/22.

Accession Number: 20220927-5100.

Comment Date: 5 p.m. ET 10/18/22.

Take notice that the Commission received the following electric reliability filings:

Docket Numbers: RR22-4-001.

Applicants: North American Electric Reliability Corporation.

Description: Amendment to August 23, 2022 request of NERC for acceptance of 2023 Business Plans and Budgets of NERC and Regional Entities and for Approval of Proposed Assessments to Fund Budgets.

Filed Date: 9/12/22.

Accession Number: 20220912-5209.

Comment Date: 5 p.m. ET 10/7/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2022.
Debbie-Anne A. Reese,
Deputy Secretary.

[FR Doc. 2022-21386 Filed 9-30-22; 8:45 am]

BILLING CODE 6717-01-P